DEPARTMENT OF TRANSPORTATION

Federal Aviation Administration

14 CFR Part 39

[Docket No. FAA-2020-0965; Project Identifier MCAI-2020-01068-T; Amendment 39-21502; AD 2021-08-08]

RIN 2120-AA64

Airworthiness Directives; Airbus SAS Airplanes

AGENCY: Federal Aviation Administration (FAA), Department of Transportation (DOT).

ACTION: Final rule.

SUMMARY: The FAA is adopting a new airworthiness directive (AD) for all Airbus SAS Model A350-941 and -1041 airplanes. This AD was prompted by a report that a welding quality issue has been identified in the gimbal joint of the air bleed duct located at each wing-to-pylon interface; the inner ring of a gimbal had deformed to an oval shape, which could lead to cracking caused by direct contact between metal parts. This AD requires replacing affected bleed duct assemblies and bleed gimbals at the wing-to-pylon interface with a serviceable part, as specified in a European Union Aviation Safety Agency (EASA) AD, which is incorporated by reference. The FAA is issuing this AD to address the unsafe condition on these products.

DATES: This AD is effective May 25, 2021.

The Director of the Federal Register approved the incorporation by reference of a certain publication listed in this AD as of May 25, 2021.

ADDRESSES: For material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0965.

Examining the AD Docket

You may examine the AD docket on the internet at https://www.regulations.gov by searching for and locating Docket No. FAA-2020-0965; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Kathleen Arrigotti, Aerospace Engineer, Large Aircraft Section, International Validation Branch, FAA, 2200 South 216th St., Des Moines, WA 98198; telephone and fax 206-231-3218; Kathleen.Arrigotti@faa.gov.

SUPPLEMENTARY INFORMATION:

Background

The EASA, which is the Technical Agent for the Member States of the European Union, has issued EASA AD 2020-0169R1, dated August 19, 2020 (EASA AD 2020-0169R1) (also referred to as the Mandatory Continuing Airworthiness Information, or the MCAI), to correct an unsafe condition for all Airbus SAS Model A350-941 and -1041 airplanes.

The FAA issued a notice of proposed rulemaking (NPRM) to amend 14 CFR part 39 by adding an AD that would apply to all Airbus SAS Model A350-941 and -1041 airplanes. The NPRM published in the Federal Register on October 23, 2020 (85 FR 67467). The NPRM was prompted by a report that a welding quality issue has been identified in the gimbal joint of the air bleed duct located at each wing-to-pylon interface; the inner ring of a gimbal had deformed to an oval shape, which could lead to cracking caused by direct contact between metal parts. The NPRM proposed to require replacing affected bleed duct assemblies and bleed gimbals at the wing-to-pylon interface with a serviceable part, as specified in EASA AD 2020-0169R1.

The FAA is issuing this AD to address a welding quality issue that could cause cracking, and could lead to hot bleed air leakage in the pylon area, and possibly result in loss of the pneumatic system and exposure of the wing structure to high temperatures, and lead to reduced structural integrity of the airplane. See the MCAI for additional background information.

Comments

The FAA gave the public the opportunity to participate in developing this final rule. The following presents the comments received on the NPRM and the FAA's response to each comment.

Request To Correct Notes and Clearances in the Referenced Service Information

Delta Airlines (DAL) stated that the service information referenced in EASA AD 2020-0169R1 calls out the wrong note in several locations. DAL stated that view A-A, “The Wing Environment,” in SHEET 3/3 of Figure ICN-A350-A-36XXP023-A-FAPE3-05BQ7-A-001-01; and SHEET 3/3 of Figure ICN-A350-A-36XXP024-A-FAPE3-05CCU-A-001-01; calls out Note 03 and this should be Note 04. DAL also stated that in View B-B, those figures call out Note 04 and this should be Note 03. The FAA infers that DAL is requesting the FAA add an exception to the proposed AD to clarify the correct note numbers.

DAL commented that when reviewing maintenance procedure (MP) A350-A-36-11-48-08001-720A-A, it noted that the MP does not specify a clearance during the installation process and it does not mention clearance to structure. DAL stated that both notes in the referenced figures should use the same standard as the MP installation instructions, which is, “Make sure there is clearance between structure and sensing elements,” rather than specifying minimum clearances. DAL added that including minimum clearance dimensions in the notes in the referenced figures will make them mandatory.

The FAA agrees to provide clarification regarding these issues. Airbus has confirmed that the notes could have been written without mentioning general terms like “elements” or “wing environment,” but all drawing references and the clearances expressed in them are correct. Specifying minimum clearance dimensions in the referenced figures is intentional and needed to address the unsafe condition identified in this AD. The FAA has not changed the AD in this regard.

Request To Clarify Verbiage in the Referenced Service Information

DAL stated that the service information referenced in EASA AD 2020-0169R1 uses the terms “detailed inspection of bleed gimbals” and “general visual inspection of bleed gimbal records.” DAL commented that these terms are confusing and negate the FAA's definition of general visual inspection. DAL proposed the following, which it stated is the FAA's standard wording: “perform a detailed visual inspection on bleed gimbals” and “review aircraft maintenance records for bleed gimbal removals.”

The FAA agrees to provide clarification. The FAA contacted EASA for clarification of the inspections specified in the service information referenced in EASA AD 2020-0169R1. The intent of the “detailed inspection of bleed gimbals” and the “general visual inspection of the bleed gimbal records” is to verify the part numbers and manufacturing dates of the bleed gimbals. The FAA has added paragraph (h)(3) of this AD to clarify that where the service information referenced in EASA AD 2020-0169R1, specifies doing a “general visual inspection” and “detailed inspection” of the bleed gimbals and bleed gimbal records, this AD allows for an inspection to determine the part number and manufacturing date of the bleed gimbals.

Conclusion

The FAA reviewed the relevant data, considered the comments received, and determined that air safety and the public interest require adopting this final rule with the changes described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related Service Information Under 1 CFR Part 51

EASA AD 2020-0169R1 describes procedures for replacing affected bleed duct assemblies and bleed gimbals at the wing-to-pylon interface with serviceable parts. This material is reasonably available because the interested parties have access to it through their normal course of business or by the means identified in the ADDRESSES section.

Costs of Compliance

The FAA estimates that this AD affects 13 airplanes of U.S. registry. The FAA estimates the following costs to comply with this AD:

Estimated Costs for Required Actions
Labor cost | Parts cost | Cost per product | Cost on U.S. operators
25 work-hours × $85 per hour = $2,125 | Up to $48,800 | Up to $50,925 | Up to $662,025.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-08-08 Airbus SAS: Amendment 39-21502; Docket No. FAA-2020-0965; Project Identifier MCAI-2020-01068-T.

(a) Effective Date

This airworthiness directive (AD) is effective May 25, 2021.

(b) Affected ADs

None.

(c) Applicability

This AD applies to all Airbus SAS Model A350-941 and -1041 airplanes, certificated in any category.

(d) Subject

Air Transport Association (ATA) of America Code 36, Pneumatic.

(e) Reason

This AD was prompted by a report that a welding quality issue has been identified in the gimbal joint of the air bleed duct located at each wing-to-pylon interface; the inner ring of a gimbal had deformed to an oval shape, which could lead to cracking caused by direct contact between metal parts. The FAA is issuing this AD to address this condition, which could lead to hot bleed air leakage in the pylon area, and possibly result in loss of the pneumatic system and exposure of the wing structure to high temperatures, and lead to reduced structural integrity of the airplane.

(f) Compliance

Comply with this AD within the compliance times specified, unless already done.

(g) Requirements

Except as specified in paragraph (h) of this AD: Comply with all required actions and compliance times specified in, and in accordance with, European Union Aviation Safety Agency (EASA) AD 2020-0169R1, dated August 19, 2020 (EASA AD 2020-0169R1).

(h) Exceptions to EASA AD 2020-0169R1

(1) Where EASA AD 2020-0169R1 refers to its effective date, this AD requires using the effective date of this AD.

(2) The “Remarks” section of EASA AD 2020-0169R1 does not apply to this AD.

(3) Where the service information referenced in paragraph (2) of EASA AD 2020-0169R1 specifies doing a “general visual inspection” and “detailed inspection” of bleed gimbal records and bleed gimbals, this AD allows for an inspection to determine the part number and manufacturing date of the bleed gimbals. A review of airplane maintenance records is acceptable in lieu of this inspection for the part number of the bleed gimbals if it can be conclusively determined from that review.

(i) No Reporting Requirement

Although the service information referenced in EASA AD 2020-0169R1 specifies to submit certain information to the manufacturer, this AD does not include that requirement.

(j) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraph (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Kathleen Arrigotti, Aerospace Engineer, Large Aircraft Section, International Validation Branch, FAA, 2200 South 216th St., Des Moines, WA 98198; telephone and fax 206-231-3218; Kathleen.Arrigotti@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0169R1, dated August 19, 2020.

(ii) [Reserved]

(3) For EASA AD 2020-0169R1, contact EASA, Konrad-Adenauer-Ufer 3, 50668 Cologne, Germany; telephone +49 221 8999 000; email ADs@easa.europa.eu; internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0965.

(5) You may view this material that is incorporated by reference at the National Archives and Records Administration (NARA). For information on the availability of this material at NARA, email fedreg.legal@nara.gov, or go to: https://www.archives.gov/federal-register/cfr/ibr-locations.html.

Issued on April 1, 2021.
Lance T. Gant,
Director, Compliance & Airworthiness Division, Aircraft Certification Service.

[FR Doc. 2021-08057 Filed 4-19-21; 8:45 am]

BILLING CODE 4910-13-P